DEPARTMENT OF THE INTERIOR

Fish and Wildlife Service

[FWS-R8-R-2010-N026; 80230-1265-0000-S3]

Hopper Mountain, Bitter Creek, and Blue Ridge National Wildlife Refuges, Kern, San Luis Obispo, Tulare, and Ventura Counties, CA

AGENCY: Fish and Wildlife Service, Interior.

ACTION: Notice of intent to prepare a comprehensive conservation plan and environmental assessment; request for comments.

SUMMARY: We, the U.S. Fish and Wildlife Service (Service), intend to prepare a comprehensive conservation plan (CCP) and environmental assessment (EA) for the Hopper Mountain, Bitter Creek, and Blue Ridge National Wildlife Refuges (NWRs) located in Kern, San Luis Obispo, Tulare, and Ventura counties of California. We provide this notice in compliance with our CCP policy to advise other Federal, State, and local agencies; Tribes; and the public of our intentions, and to obtain suggestions and information on the scope of issues to consider in the planning process.

DATES: To ensure consideration, please send your written comments by May 21, 2010.

ADDRESSES: Send your comments or requests for more information by any of the following methods.

E-mail: fw8plancomments@fws.gov. Include “Hopper CCP” in the subject line of the message.

Fax: Attn: Sandy Osborn, (916) 414-6497.

U.S. Mail: Pacific Southwest Region, Refuge Planning, U.S. Fish and Wildlife Service, 2800 Cottage Way, W-1832, Sacramento, CA 95825.

In-Person Drop-off: You may drop off comments at the Hopper Mountain NWR Complex Headquarters in Ventura, California, during regular business hours; please call (805) 644-5185 for directions.

FOR FURTHER INFORMATION CONTACT: Sandy Osborn, Planning Team Leader, at (916) 414-6503 or Marc Weitzel, Project Leader, at (805) 644-5185 or fw8plancomments@fws.gov. Further information may also be found at http://www.fws.gov/cno/refuges/planning/ccp.cfm.

SUPPLEMENTARY INFORMATION:

Introduction

With this notice, we initiate our process for developing a CCP for Hopper Mountain, Bitter Creek, and Blue Ridge NWRs in Kern, San Luis Obispo, Tulare, and Ventura Counties, California. This notice complies with our CCP policy to (1) advise other Federal and State agencies, Tribes, and the public of our intention to conduct detailed planning on this refuge and (2) obtain suggestions and information on the scope of issues to consider in the environmental document and during development of the CCP.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation where compatible with refuge purposes. We will review and update the CCP at least every 15 years in accordance with the Administration Act.

Each unit of the National Wildlife Refuge System was established for specific purposes. We use these purposes as the foundation for developing and prioritizing the management goals and objectives for each refuge within the National Wildlife Refuge System, and to determine how the public can use each refuge. The planning process is a way for us and the public to evaluate management goals, objectives, and strategies that will ensure the best possible approach to wildlife, plant, and habitat conservation, while providing for wildlife-dependent recreation opportunities that are compatible with each refuge's establishing purposes and the mission of the National Wildlife Refuge System.

Our CCP process provides opportunities for participation by Tribal, State, and local governments; agencies; organizations; and the public. We will be contacting identified stakeholders and individuals at this time for initial input. If you would like to meet with planning staff or would like to receive periodic updates, please contact us (see ADDRESSES). We anticipate holding public meetings for initial comments and also when we have identified alternative management scenarios. At this time we encourage comments in the form of issues, concerns, ideas, and suggestions for the future management of Hopper Mountain, Bitter Creek, and Blue Ridge NWRs.

We will conduct the environmental review of this project in accordance with the requirements of the National Environmental Policy Act of 1969, as amended (NEPA) (42 U.S.C. 4321 et seq.); NEPA regulations (40 CFR parts 1500-1508); other appropriate Federal laws and regulations; and our policies and procedures for compliance with those laws and regulations.

Hopper Mountain National Wildlife Refuge

Hopper Mountain NWR is in Ventura County, approximately 6 miles north of the community of Fillmore. Hopper Mountain NWR was established in 1974 to protect the endangered California condor, its habitat, and other wildlife resources. The refuge encompasses 2,471 contiguous acres owned in fee title by the U.S. Fish and Wildlife Service. This refuge is currently closed to public use.

Bitter Creek National Wildlife Refuge

Bitter Creek NWR is located approximately 80 miles north of Los Angeles and approximately 10 miles southwest of the community of Maricopa in the arid foothills, primarily in Kern County. The legislatively approved refuge boundary also falls within parts of San Luis Obispo and Ventura Counties. Bitter Creek NWR was established in 1985 to provide safe roosting and foraging habitat for California condors. The refuge encompasses nearly 14,097 acres owned in fee title by the U.S. Fish and Wildlife Service. The Bitter Creek NWR Grassland Habitat Management and Restoration Plan Environmental Assessment and Compatibility Determination is ongoing. This refuge is currently closed to public use.

Blue Ridge National Wildlife Refuge

Blue Ridge NWR is located in central Tulare County in the foothills of the Sierra Nevada Mountains, 11 miles north of Springville and 17.5 miles northeast of Porterville, California. Blue Ridge NWR was established in 1982 to protect critical habitat for the California condor. Blue Ridge NWR encompasses 897 acres owned in fee title by the U.S. Fish and Wildlife Service. This refuge is currently closed to public use.

Scoping: Preliminary Issues, Concerns, and Opportunities

We have identified preliminary issues, concerns, and opportunities that we may address in the CCP. These include: Wildlife management, habitat management, wildlife-dependent recreation, environmental education, and cultural resources. During public scoping, we may identify additional issues.

Public Meetings

We will give the public an opportunity to provide input at public meetings. You can obtain the schedule from the planning team leader or project leader (see FOR FURTHER INFORMATION CONTACT). You may also submit comments or request a meeting during the planning process by mail, e-mail, or fax (see ADDRESSES). There will be additional opportunities to provide public input once we have prepared a draft CCP.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: March 26, 2010.
Ken McDermond,
Acting Regional Director, Pacific Southwest Region, Sacramento, California.

[FR Doc. 2010-7353 Filed 4-5-10; 8:45 am]

BILLING CODE 4310-55-P